DEPARTMENT OF COMMERCE

International Trade Administration

[A-122-503]

Notice of Initiation and Preliminary Results of Changed Circumstances Antidumping Duty Administrative Review: Iron Construction Castings From Canada

AGENCY: Import Administration, International Trade Administration, Department of Commerce.

SUMMARY: The Department of Commerce (the Department) has received information sufficient to warrant initiation of a changed circumstances administrative review of the antidumping duty order on iron construction castings from Canada. Based on this information, we preliminarily determine that the Laperle foundry, Grand Mere foundry, and Bibby Ste Croix foundry, which were owned by various legal entities named as respondents in prior segments of this proceeding, are now all part of the Bibby Ste-Croix Division of Canada Pipe Company, Ltd. (Canada Pipe) and that the merchandise from these foundries should receive the same antidumping duty rate as the rate applied to Canada Pipe Company, Ltd. Interested parties are invited to comment on these preliminary results.

EFFECTIVE DATE: July 9, 2002.

FOR FURTHER INFORMATION CONTACT: Karine Gziryan or Howard Smith, AD/CVD Enforcement, Group II, Office 4, Import Administration, International Trade Administration, U.S. Department of Commerce, 14th Street and Constitution Avenue, NW, Washington, DC 20230; telephone (202) 482-4081 and (202) 482-5193, respectively.

SUPPLEMENTARY INFORMATION:

Applicable Statute and Regulations

Unless otherwise stated, all citations to the Tariff Act of 1930, as amended (the Act), are references to the provisions effective as of January 1, 1995, the effective date of the amendments made to the Act by the Uruguay Round Agreements Act (URAA). In addition, unless otherwise indicated, all citations to the Department's regulations are to the regulations codified at 19 CFR part 351 (April 2002).

Background

On April 12, 2001, the Department published in the Federal Register (66 FR 18900) the final results of the antidumping duty administrative review on iron construction castings from Canada covering the period March 1, 1999 through February 29, 2000 (99-00 administrative review). Canada Pipe was the sole respondent in the 99-00 administrative review. On May 10, 2002, Canada Pipe submitted a written request that the Department clarify for the U.S. Customs Service (possibly in the context of a changed circumstances review) that the weighted-average margin calculated in the 99-00 administrative review applies to Canada Pipe's unincorporated plants (or foundries) that have “Bibby Ste-Croix,” “Laperle,” “Grand Mere,” or simply “Bibby” in their names.

Scope of Review

The merchandise covered by this review consists of certain iron construction castings from Canada, limited to manhole covers, rings, and frames, catch basin grates and frames, cleanout covers and frames used for drainage or access purposes for public utility, water and sanitary systems, classifiable as heavy castings under Harmonized Tariff Schedule (HTS) item number 7325.10.0010. The HTS item number is provided for convenience and Customs purposes only. The written description remains dispositive.

Initiation and Preliminary Results of Review

In its May 10, 2002 submission to the Department, Canada Pipe explained that questions have arisen on the part of the U.S. Customs Service (U.S. Customs) as to whether subject merchandise produced by certain Canada Pipe foundries is entitled to the antidumping margin calculated for Canada Pipe in the 99-00 administrative review. Specifically, questions arose regarding Canada Pipe's foundries that have “Bibby,” “Bibby Ste-Croix,” “Laperle,” or “Grand Mere” in their names because these foundries were owned by entities that had received individual antidumping duty margins in prior segments of the proceeding on iron construction castings from Canada. In its May 10, 2002 submission, Canada Pipe notes that it did not start producing the subject merchandise until April 1997, when it acquired the assets and trademarks of these castings foundries from an unrelated entity. Further, Canada Pipe notes that during the 99-00 administrative review, it operated these foundries, Fonderie Bibby Ste-Croix, Fonderie Laperle, and Fonderie Grand Mere,¹ as unincorporated foundries within its Bibby Ste-Croix Division. However, because Canada Pipe continues to use these foundry names, or references thereto, on sales and Customs entry documentation, U.S. Customs has continued to apply the antidumping duty deposit rates assigned to these foundries in prior segments of this proceeding to entries of Canada Pipe's subject merchandise.

¹ These are the Canadian French versions of the foundry names.

Thus, in accordance with section 751(b) of the Act and sections 351.216 and 351.221(a) of the Department's regulations, the Department is initiating a changed circumstances review to determine whether the unincorporated Bibby Ste-Croix, Laperle, and Grand Mere foundries identified as part of Canada Pipe's Bibby Ste-Croix Division are the foundries that were owned by various legal entities named as respondents in prior segments of this proceeding and whether Canada Pipe was the legal entity that owned these foundries during the 99-00 administrative review.

Canada Pipe has presented evidence to establish a prima facie case supporting its status as the sole owner of the Laperle, Grand Mere and Bibby Ste Croix foundries that were involved in a number of segments of this proceeding prior to the 99-00 administrative review. Moreover, the Department has examined the record of all of the proceeding segments prior to the 99-00 administrative review and found evidence which supports the information that Canada Pipe submitted in its May 20, 2002 request for this changed circumstances review. Finally, the Department notes that its examination of Canada Pipe during the 99-00 administrative review encompassed the entire company, including the Bibby Ste-Croix Division and all of its heavy castings foundries, Bibby Ste-Croix, Laperle, and Grand Mere—(i.e., the Canadian Pipe dumping margin calculated in that review was based on the combined sales of all of these foundries). As a consequence, we find that it is appropriate to issue the preliminary results of our review in combination with the notice of initiation of the changed circumstances review in accordance with section 351.221(c)(3)(ii) of the Department's regulations. Because the evidence indicates that Canada Pipe is the sole owner of the unincorporated Bibby Ste Croix Division, we preliminarily determine that Canada Pipe's Bibby Ste Croix Division and its Bibby Ste Croix Foundry, Laperle Foundry, Grand Mere Foundry should be given the same antidumping duty treatment as Canada Pipe, including Canada Pipe's 3.84 percent antidumping duty cash deposit rate established in the 99-00 administrative review based on production and sales by all of these foundries. For further discussion of this issue, see the memorandum from Holly A. Kuga to Bernard T. Carreau, dated concurrently with this notice, regarding Iron Constructing Castings from Canada: Changed Circumstances Review.

Because the Department reviewed sales of Canada Pipe, including its Bibby Ste Croix Division, in the 99-00 administrative review, the cash deposit rate from that review will apply to all entries of the subject merchandise entered, or withdrawn from warehouse, for consumption on or after April 12, 2001, the date of publication of the final results in the 99-00 administrative review. This deposit rate shall remain in effect until publication of the final results of the next relevant administrative review.

Interested parties are invited to comment on these preliminary results. Any written comments may be submitted no later than 14 days after date of publication of this notice. Rebuttal briefs, limited to arguments raised in case briefs, are due five days after the case brief deadline. Case briefs and rebuttal briefs must be served on interested parties in accordance with 19 CFR 351.209. The Department will publish the final results of the changed circumstances review including the results of its analysis of any issues raised in any such comments.

This initiation of review, preliminary results of review, and notice are in accordance with sections 751(b) and 777(i)(1) of the Act.

Dated: June 24, 2002.
Joseph A. Spetrini,
Acting Assistant Secretary for Import Administration.

[FR Doc. 02-17200 Filed 7-8-02; 8:45 am]

BILLING CODE 3510-DS-P